DEPARTMENT OF HOMELAND SECURITY

Coast Guard

33 CFR Part 100

[Docket No. USCG-2024-0892]

Special Local Regulation; Key West World Championship, Key West, FL

AGENCY: Coast Guard, DHS.

ACTION: Notification of enforcement of regulation.

SUMMARY: The Coast Guard will enforce a special local regulation for the Key West World Championship high-speed boat race on November 6, 8, and 10, 2024, to provide for the safety of life on navigable waterways during this event. Our regulation for marine events within the Seventh Coast Guard District identifies the regulated area for this event in Key West, FL. During the enforcement period, no person or vessel may enter, transit through, anchor in, or remain within the regulated area without permission from the Captain of the Port Key West or a designated representative.

DATES: The regulations in 33 CFR 100.701 will be enforced for the Key West World Championship high-speed boat race regulated area in paragraph (b), item no. 4 in table 1 to § 100.701, daily from 10 a.m. until 4 p.m., on November 6, 8, and 10, 2024.

FOR FURTHER INFORMATION CONTACT: If you have questions about this notification of enforcement, call or email Lieutenant Hailye Wilson, Sector Key West Waterways Management Division, Coast Guard; telephone 305-292-8768, email Hailye.M.Wilson@uscg.mil.

SUPPLEMENTARY INFORMATION: The Coast Guard will enforce special local regulations in for the Key West World Championship high speed boat race area identified in table 1 to § 100.701, paragraph (b), item No. 4, on November 6, 8, and 10, 2024. This action is being taken to provide for the safety of life on navigable waterways during this event. Our regulation for recurring marine events, Sector Key West, § 100.701, table 1 paragraph (b), Item 4, specifies the location of the regulated area for the Key West World Championship high-speed boat race, which encompasses a portion of the Atlantic Ocean in Key West, Florida. During the enforcement periods, as reflected in § 100.701(c), all persons and vessels, except those persons and vessels participating in the high-speed boat race, are prohibited from entering, transiting through, anchoring in, or remaining within the regulated area without obtaining permission from the Captain of the Port Key West or a designated representative.

In addition to this notice of enforcement in the Federal Register, the Coast Guard plans to provide notification of this enforcement period via the Local Notice to Mariners, marine information broadcasts, or both.

Dated: October 23, 2024.
Jason D. Ingram,
Captain, U.S. Coast Guard, Captain of the Port Key West.

[FR Doc. 2024-25029 Filed 10-28-24; 8:45 am]

BILLING CODE 9110-04-P